DEPARTMENT OF STATE

[Public Notice: 11880]

Notice of Determinations; 26 Additional Culturally Significant Objects Being Imported for Exhibition—Determinations: “Lives of the Gods: Divinity in Maya Art” Exhibition

SUMMARY: The Department of State has made determinations with respect to 26 objects being imported from abroad for temporary display.

FOR FURTHER INFORMATION CONTACT: Elliot Chiu, Attorney-Adviser, Office of the Legal Adviser, U.S. Department of State (telephone: 202-632-6471; email: section2459@state.gov). The mailing address is U.S. Department of State, L/PD, 2200 C Street NW (SA-5), Suite 5H03, Washington, DC 20522-0505.

SUPPLEMENTARY INFORMATION: On July 27, 2021, notice was published in the Federal Register at 86 FR 40225 of determinations pertaining to certain objects to be included in an exhibition entitled “Lives of the Gods: Divinity in Maya Art.” On September 30, 2022, notice was published in the Federal Register at 87 FR 59484 of determinations pertaining to 43 additional objects to be included in the aforesaid exhibition. Notice is hereby given of the following determinations: I hereby determine that 26 additional objects being imported from abroad pursuant to an agreement with their foreign owner or custodian for temporary display in the aforesaid exhibition at The Metropolitan Museum of Art, New York, New York; the Kimbell Art Museum, Fort Worth, Texas; and at possible additional exhibitions or venues yet to be determined, are of cultural significance, and, further, that their temporary exhibition or display within the United States as aforementioned is in the national interest. I have ordered that Public Notice of these determinations be published in the Federal Register.

The foregoing determinations were made pursuant to the authority vested in me by the Act of October 19, 1965 (79 Stat. 985; 22 U.S.C. 2459), E.O. 12047 of March 27, 1978, the Foreign Affairs Reform and Restructuring Act of 1998 (112 Stat. 2681, et seq.; 22 U.S.C. 6501 note, et seq.), Delegation of Authority No. 234 of October 1, 1999, Delegation of Authority No. 236-3 of August 28, 2000, and Delegation of Authority No. 523 of December 22, 2021.

Stacy E. White,
Deputy Assistant Secretary for Professional and Cultural Exchanges, Bureau of Educational and Cultural Affairs, Department of State.

[FR Doc. 2022-21976 Filed 10-5-22; 4:15 pm]

BILLING CODE 4710-05-P